DEPARTMENT OF THE INTERIOR

National Park Service

NPS-WASO-NAGPRA-NPS0033969; PPWOCRADN0-PCU00RP14.R50000]

Notice of Inventory Completion: University of Nebraska State Museum, Lincoln, NE

AGENCY: National Park Service, Interior.

ACTION: Notice.

SUMMARY: The University of Nebraska State Museum (UNSM) has completed an inventory of associated funerary objects, in consultation with the appropriate Indian Tribes or Native Hawaiian organizations and has determined that there is a cultural affiliation between the associated funerary objects and present-day Indian Tribes or Native Hawaiian organizations. Lineal descendants or representatives of any Indian Tribe or Native Hawaiian organization not identified in this notice that wish to request transfer of control of these associated funerary objects should submit a written request to the University of Nebraska State Museum. If no additional requestors come forward, transfer of control of the associated funerary objects to the lineal descendants, Indian Tribes, or Native Hawaiian organizations stated in this notice may proceed.

DATES: Lineal descendants or representatives of any Indian Tribe or Native Hawaiian organization not identified in this notice that wish to request transfer of control of these associated funerary objects should submit a written request with information in support of the request to the University of Nebraska State Museum at the address in this notice by June 30, 2022.

FOR FURTHER INFORMATION CONTACT: Dr. Priscilla C. Grew, NAGPRA Coordinator, University of Nebraska State Museum, Nebraska Hall W436, Lincoln, NE 68588-0550, telephone (402) 472-2095, email UNSM-NAGPRA@unl.edu.

SUPPLEMENTARY INFORMATION: Notice is here given in accordance with the Native American Graves Protection and Repatriation Act (NAGPRA), 25 U.S.C. 3003, of the completion of an inventory of associated funerary objects under the control of the University of Nebraska State Museum, Lincoln, NE. The associated funerary objects were removed from Dakota and Stanton Counties, NE.

This notice is published as part of the National Park Service's administrative responsibilities under NAGPRA, 25 U.S.C. 3003(d)(3). The determinations in this notice are the sole responsibility of the museum, institution, or Federal agency that has control of the Native American associated funerary objects. The National Park Service is not responsible for the determinations in this notice.

Consultation

A detailed assessment of the associated funerary objects was made by the University of Nebraska State Museum professional staff in consultation with representatives of the Omaha Tribe of Nebraska.

History and Description of the Associated Funerary Objects

In December of 1998, a box containing 23 objects was discovered on the campus of the University of Nebraska-Lincoln. Nine of the objects were labeled “25DK2A.” UNSM determined that these items were funerary objects associated with the human remains and other associated funerary objects removed in 1939 from site 25DK2A, a historic cemetery dating to A.D. 1780-1820, in Dakota County, NE, during excavations conducted under the direction of Stanley Bartos, Jr. All the human remains and associated funerary objects under the control of UNSM that are clearly from site 25DK2A have been repatriated to the Omaha Tribe of Nebraska.

In 2017, the box containing the other 14 objects was discovered at UNSM. Consultations conducted in 2017 and 2022 with representatives of the Omaha Tribe of Nebraska resulted in the determination that these 14 items are funerary objects that either are associated with the human remains and other associated funerary objects from site 25DK2A or are associated with the human remains and other associated funerary objects removed in 1940 from site 25DK10, a historic cemetery dating to A.D. 1780-1820, in Dakota County, NE, during excavations conducted under the direction of John Champe. All the human remains and associated funerary objects under the control of UNSM that are clearly from site 25DK10 have been repatriated to the Omaha Tribe of Nebraska. The 14 associated funerary objects are three lots of black glass beads, one lot of turquoise-blue glass beads, one lot of red wire-wrapped glass beads, four lots of mixed-color glass beads, one lot of white glass beads, one lot of black and white glass beads, one bone core of a bear claw, one bison bone rattle, and one brass crucifix pendant.

In May of 2017, one pottery sherd was discovered in the UNSM collections in an envelope labelled “Nov. 3, '40 Stanton, Nebr. Emil Entenmann's cornfield in fallow on the hill. Central ridge on way to cemetery near bead location found sherd.” Consultations conducted in 2017 and 2022 with representatives of the Omaha Tribe of Nebraska resulted in the determination that this item is a funerary object that is associated with the human remains and other associated funerary objects removed in 1940 from site 25ST0, a Native American burial from the historic period discovered in Emil Entenmann's cornfield. All the human remains and associated funerary objects under the control of UNSM that are clearly from site 25ST0 have been repatriated to the Omaha Tribe of Nebraska. The associated funerary object is a small gray body sherd decorated with four parallel, incised lines.

Determinations Made by the University of Nebraska State Museum

Officials of the University of Nebraska State Museum have determined that:

• Pursuant to 25 U.S.C. 3001(3)(A), the 15 objects described in this notice are reasonably believed to have been placed with or near individual human remains at the time of death or later as part of the death rite or ceremony.

• Pursuant to 25 U.S.C. 3001(2), there is a relationship of shared group identity that can be reasonably traced between the Native American associated funerary objects and the Omaha Tribe of Nebraska.

Additional Requestors and Disposition

Lineal descendants or representatives of any Indian Tribe or Native Hawaiian organization not identified in this notice that wish to request transfer of control of these associated funerary objects should submit a written request with information in support of the request to Dr. Priscilla C. Grew, NAGPRA Coordinator, University of Nebraska State Museum, Nebraska Hall W436, Lincoln, NE 68588-0550, telephone (402) 472-2095, email UNSM-NAGPRA@unl.edu, by June 30, 2022. After that date, if no additional requestors have come forward, transfer of control of the associated funerary objects to the Omaha Tribe of Nebraska may proceed.

The University of Nebraska State Museum is responsible for notifying the Omaha Tribe of Nebraska that this notice has been published.

Dated: May 18, 2022.
Melanie O'Brien,
Manager, National NAGPRA Program.

[FR Doc. 2022-11635 Filed 5-27-22; 8:45 am]

BILLING CODE 4312-52-P